FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 9, 2004.

A. Federal Reserve Bank of Minneapolis (Jacqueline G. Nicholas, Community Affairs Officer) 90 Hennepin Avenue, Minneapolis, Minnesota 55480-0291:

1. Martha A. Soter, Tucson, Arizona; Fred J. Christenson, Fairfield, Connecticut; Molly A. Hershede, Phoenix, Arizona; John W. Thomson, Sioux Falls, individually and as trustee of the Nane A. Thomson Trust; Nane A. Thomson, Sioux Falls; the Nane A. Thomson Trust, Sioux Falls; James R. Thomson, Centerville, individually and as trustee of the Sarah A. Thomson Trust, the Christopher Thomson Trust, the Alex B. Cole Trust, and the Erin T. Cole Trust; the Sarah A. Thomson Trust, Centerville; the Christopher Thomson Trust, Centerville, all in South Dakota; John E. Lindahl, Wayzata, as trustee of the Sarah A. Thomson Trust, the Christopher Thomson Trust, the Alex B. Cole Trust, and the Erin T. Cole Trust; John L. Thomson, Minneapolis, individually and as trustee of the John Lubar Thomson Trust, the Maddie C. Thomson Trust and the Joseph N. Thomson Trust; Kristine L. Thomson, Minneapolis, all of Minnesota; as trustee of the John Lubar Thomson Trust, the Maddie C. Thomson Trust and the Joseph N. Thomson Trust; David J. Lubar, Milwaukee, Wisconsin, as trustee of the John Lubar Thomson Trust, the Maddie C. Thomson Trust and the Joseph N. Thomson Trust; the John Lubar Thomson Trust, Minneapolis; the Maddie C. Thomson Trust, Minneapolis; the Joseph N. Thomson Trust, Minneapolis, all in Minnesota; Ann L. Cole, Sioux Falls; the Alex B. Cole Trust, Centerville; and the Erin T. Cole Trust, Centerville, all in South Dakota; to acquire additional voting shares of Thomson Holdings, Inc., Centerville, South Dakota, and thereby to indirectly acquire additional voting shares of First Midwest Bank, Centerville, South Dakota.

B. Federal Reserve Bank of Dallas (W. Arthur Tribble, Vice President) 2200 North Pearl Street, Dallas, Texas 75201-2272:

1. Ms. Dianne Jaggars Stone, Hico, Texas; to acquire additional voting shares of First National Bancshares of Hico, Inc., Hico, Texas, and thereby indirectly acquire additional voting shares of The First National Bank of Hico, Hico, Texas.

Board of Governors of the Federal Reserve System, February 18, 2004.
Robert deV. Frierson,
Deputy Secretary of the Board.

[FR Doc. 04-3854 Filed 2-20-04; 8:45 am]

BILLING CODE 6210-01-S